PENSION BENEFIT GUARANTY CORPORATION

Submission of Information Collection for OMB Review; Comment Request; Locating and Paying Participants

AGENCY: Pension Benefit Guaranty Corporation.

ACTION: Notice of request for extension of OMB approval, with modifications.

SUMMARY: Pension Benefit Guaranty Corporation (PBGC) is requesting that the Office of Management and Budget (OMB) extend its approval, with modifications, of a collection of information under the Paperwork Reduction Act (OMB control number 1212-0055, expires August 31, 2008). The purpose of the information collection is to enable PBGC to locate and pay benefits to participants and beneficiaries in plans covered by the PBGC insurance program, as well as other pension plans that will be covered by PBGC's expanded Missing Participant program under the Pension Protection Act of 2006. This notice informs the public of PBGC's request and solicits public comment on the collection of information.

DATES: Comments should be submitted by August 29, 2008.

ADDRESSES: Comments should be sent to the Office of Information and Regulatory Affairs, Office of Management and Budget, Attention: Desk Officer for Pension Benefit Guaranty Corporation, via electronic mail at OIRA_DOCKET@omb.eop.gov or by fax to (202) 395-6974.

Copies of the collection of information may also be obtained without charge by writing to the Disclosure Division of the Office of the General Counsel of PBGC at the above address or by visiting the Disclosure Division or calling 202-326-4040 during normal business hours. (TTY and TDD users may call the Federal relay service toll-free at 1-800-877-8339 and ask to be connected to 202-326-4040.) The Disclosure Division will e-mail, fax, or mail the requested information to you, as you request.

FOR FURTHER INFORMATION CONTACT: Jo Amato Burns, Attorney, or Catherine B. Klion, Manager, Regulatory and Policy Division, Legislative and Regulatory Department, Pension Benefit Guaranty Corporation, 1200 K Street, NW., Washington, DC 20005-4026, 202-326-4024. (For TTY/TDD users, call the Federal relay service toll-free at 1-800-877-8339 and ask to be connected to 202-326-4024.)

SUPPLEMENTARY INFORMATION: PBGC is requesting that OMB extend its approval, with modifications, of a collection of information needed to pay participants and beneficiaries who may be entitled to pension benefits under a defined benefit plan that has terminated. The collection consists of information participants and beneficiaries are asked to provide in connection with applications for benefits. In addition, in some instances, as part of a search for participants and beneficiaries who may be entitled to benefits, PBGC requests individuals to provide identifying information that the individual would provide as part of an initial contact with PBGC. The information collection also includes My Pension Benefit Account (My PBA), an application on PBGC's Web site, http://www.pbgc.gov, through which plan participants and beneficiaries may conduct electronic transactions with PBGC, including applying for pension benefits, designating a beneficiary, granting a power of attorney, changing contact information, and applying for electronic direct deposit. All requested information is needed to enable PBGC to determine benefit entitlements and to make appropriate payments, or to provide respondents with specific information about their pension plan to enable them to obtain a rough estimate of their benefit.

This collection of information has been approved by OMB under control number 1212-0055 (expires August 31, 2008). PBGC is requesting that OMB extend its approval for three years. An agency may not conduct or sponsor, and a person is not required to respond to, a collection of information unless it displays a currently valid OMB control number.

For plans covered by the PBGC insurance program, PBGC estimates that 84,800 benefit application or information forms will be filed annually by individuals entitled to benefits from PBGC and that the associated burden is 63,550 hours and $3,100. PBGC further estimates that 12,000 individuals annually will provide PBGC with identifying information as part of an initial contact and that the associated burden is 3,500 hours. Thus, for plans covered by the PBGC insurance program, the total estimated annual burden associated with this collection of information is 67,050 hours and $3,100.

Section 410 of the Pension Protection Act of 2006 allows certain terminating plans not covered by the existing Missing Participants program to participate in that program. Once final regulations are issued, the program will cover multiemployer plans, small professional service employer plans (25 or fewer active participants), and individual account plans. PBGC anticipates issuing final regulations in 2009.

PBGC estimates that 6,400 benefit application or information forms will be filed annually by missing participants in plans that are not covered by the existing Missing Participant program, and that the associated burden is 6,400 hours. PBGC further estimates that 12,000 individuals annually will provide the PBGC with identifying information as part of an initial contact and that the associated burden is 3,000 hours.

Thus, over the next three years, the total estimated annual burden associated with this collection of information is 73,300 hours and $3,100.

Issued in Washington, DC, this 25th day of July, 2008.
Catherine B. Klion,
Manager, Regulatory and Policy Division, Legislative and Regulatory Department, Pension Benefit Guaranty Corporation.

[FR Doc. E8-17470 Filed 7-29-08; 8:45 am]

BILLING CODE 7709-01-P